DEPARTMENT OF COMMERCE

International Trade Administration

[A-557-820]

Silicon Metal From Malaysia: Final Results of Antidumping Duty Administrative Review; 2022-2023

AGENCY: Enforcement and Compliance, International Trade Administration, Department of Commerce.

SUMMARY: The U.S. Department of Commerce (Commerce) determines that silicon metal from Malaysia was not sold in the United States at less than normal value during the period of review (POR), August 1, 2022, through July 31, 2023.

DATES: Applicable March 11, 2025.

FOR FURTHER INFORMATION CONTACT: Rachel Jennings, AD/CVD Operations, Office V, Enforcement and Compliance, International Trade Administration, U.S. Department of Commerce, 1401 Constitution Avenue NW, Washington, DC 20230; telephone: (202) 482-1110.

SUPPLEMENTARY INFORMATION:

Background

On September 13, 2024, Commerce published in the Federal Register the preliminary results of the 2022-2023 administrative review of the antidumping duty order on silicon metal from Malaysia, and invited interested parties to comment.¹ Because no comments were submitted by interested parties, we have adopted the Preliminary Results as the final results of this review ² and no decision memorandum accompanies this Federal Register notice. Commerce conducted this administrative review in accordance with section 751(a) of the Tariff Act of 1930, as amended (the Act).

¹ See Silicon Metal from Malaysia: Preliminary Results of Antidumping Duty Administrative Review; 2022-2023, 89 FR 74910 (September 13, 2024) (Preliminary Results), and accompanying Preliminary Decision Memorandum (PDM); see also Silicon Metal from Malaysia: Antidumping Duty Order, 86 FR 46677 (August 19, 2021) (Order).

² Although Commerce updated its analysis to incorporate the revised database timely submitted by PMB Silicon Sdn Bhd (PMB Silicon) in response to the supplemental questionnaire issued after the Preliminary Results, the underlying rationale and resulting weighted-average margin calculated for the company remain unchanged. See PMB Silicon's Letter, “Silicon Metal from Malaysia Supplemental Response,” dated October 1, 2024; see also Memorandum, “Final Analysis Memorandum for PMB Silicon Sdn. Bhn.,” dated concurrently with this notice (Analysis Memo).

Scope of the Order

The merchandise covered by this Order is all forms and sizes of silicon metal, including silicon metal powder. For a complete description of the scope of the Order, see the Preliminary Results.³

³ See Preliminary Results PDM.

Final Results of Review

Commerce determines that the following estimated weighted-average dumping margin exists for the period August 1, 2022, through July 31, 2023:

Exporter/producer | Weighted- average dumping margin (percent)
PMB Silicon Sdn. Bhd | 0.00

Disclosure

Although there is no change to the weighted-average dumping margin calculated in the Preliminary Results for PMB Silicon, Commerce updated its analysis for these final results to incorporate a revised database submitted by PMB Silicon after the Preliminary Results.⁴ Commerce intends to disclose the calculations performed for these final results to parties in this proceeding within five days of the date of publication of this notice in the Federal Register, in accordance with 19 CFR 351.224(b).

⁴ See Analysis Memo.

Assessment Rates

Pursuant to section 751(a)(2)(A) of the Act, and 19 CFR 351.212(b)(1), Commerce shall determine, and U.S. Customs and Border Protection (CBP) shall assess, antidumping duties on all appropriate entries covered by this review. Where the respondent's weighted-average dumping margin is either zero or de minimis (i.e., less than 0.5 percent), we will instruct CBP to liquidate the appropriate entries without regard to antidumping duties. Accordingly, because PMB Silicon's weighted-average dumping margin is zero percent, we will instruct CBP to liquidate the appropriate entries without regard to antidumping duties.

For entries of subject merchandise during the POR produced by PMB Silicon for which it did not know its merchandise was destined for the United States, we will instruct CBP to liquidate unreviewed entries at the all-others rate if there is no rate for the intermediate company(ies) involved in the transaction.⁵

⁵ For a full discussion of this practice, see Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of the final results of this administrative review, as provided by section 751(a)(2)(C) of the Act: (1) the cash deposit rate for PMB Silicon will be the rates established in the final results of this administrative review; (2) for merchandise exported by producers or exporters not covered in this administrative review but covered in a prior segment of the proceeding, the cash deposit rate will continue to be the company-specific rate published for the most recently completed segment of this proceeding; (3) if the exporter is not a firm covered in this review, a prior review, or the original less-than-fair-value (LTFV) investigation, but the producer is, the cash deposit rate will be the rate established for the most recently completed segment of this proceeding for the producer of the subject merchandise; and (4) the cash deposit rate for all other manufacturers or exporters will continue to be 12.27 percent, the all-others rate established in the LTFV investigation.⁶ These cash deposit requirements, when imposed, shall remain in effect until further notice.

⁶ See Order, 86 FR at 46678.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order (APO)

This notice also serves as a final reminder to parties subject to an APO of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

Notification to Interested Parties

We are issuing and publishing this notice in accordance with sections 751(a)(1) and 777(i) of the Act, and 19 CFR 351.221(b)(5) and 19 CFR 351.213(h)(1).

Dated: March 5, 2025.
Christopher Abbott,
Deputy Assistant Secretary for Policy and Negotiations, performing the non-exclusive functions and duties of the Assistant Secretary for Enforcement and Compliance.

[FR Doc. 2025-03836 Filed 3-10-25; 8:45 am]

BILLING CODE 3510-DS-P